DEPARTMENT OF HEALTH AND HUMAN SERVICES

Administration for Children and Families

Agency Recordkeeping/Reporting Requirements Under Emergency Review by the Office of Management and Budget (OMB); Comment Request

Title: Child Care and Development Fund Plan for States/Territories for FFY 2019-2021(ACF-118).

OMB No.: 0970-0114.

Description: The Child Care and Development Fund (CCDF) Plan (the Plan) for States and Territories is required from each CCDF Lead agency in accordance with Section 658E of the Child Care and Development Block Grant Act of 1990, (CCDBG Act), as amended, CCDBG Act of 2014 (Pub. Law 113-186), and 42 U.S.C 9858. The Plan provides ACF and the public with a description of, and assurance about, the States' and Territories' child care programs. States must submit Plans to ACF on or before July 2, 2018 for approval in order to receive funding on October 1, 2018 for FY 2019.

The Office of Child Care (OCC) has revised the FY 2019-2021 CCDF Plan Preprint to align with the CCDF Final Rule published on September 30, 2016. In making the revisions, consideration was given to minimize the burden of the collection of information on respondents. The Plan, submitted via the ACF-118, is required triennially, and will remain in effect for three years.

Due to unanticipated events, including challenges faced by States and Territories in implementing portions of the comprehensive and unprecedented background check requirements, the OCC has re-examined the implementation deadline to give States and Territories an opportunity to apply for additional time (up to two years, in one year increments) to meet the most challenging parts of the background check requirements as long as specific milestones are met. These developments required OCC to delay submission of the CCDF Plan Preprint for review and approval by OMB because the process and criteria for requesting additional time will be carried out as part of the Plan submission process. The delay prevented OCC from completing the regular Paperwork Reduction Act clearance process that includes two Federal Register notices and comment periods.

Respondents: State and Territory CCDF Lead Agencies (56)

Annual Burden Estimates
Instrument | Number of respondents | Number of responses per respondent | Average burden hours per response | Total burden hours
ACF-118 | 56 | 0.33 | 200 | 3,696

Estimated Total Annual Burden Hours: 3,696.

Additional Information:

ACF is requesting that Office of Management and Budget (OMB) grant a 180-day approval for the FY 2019-2012 CCDF State/Territory Plan Preprint (ACF-118) under procedures for emergency processing by January 31, 2018. A copy of this information collection may be obtained by contacting Valentina Ntim, Child Care Program Specialist, at (202) 205-8398. Email address: valentina.ntim@acf.hhs.gov

This notice provides for a single 30-day comment period for the public to submit comments on the revised ACF-118. Comments and questions about the information collection described above should be directed to the following addresses within 30 days of publication of this notice: Administration for Children and Families, Office of Planning, Research, and Evaluation, Attn: ACF Reports Clearance Officer, infocollection@acf.hhs.gov, and Office of Information and Regulatory Affairs, Office of Management and Budget, Paperwork Reduction Project, Desk Officer for ACF, Email address: Stephanie_J_Tatham@omb.eop.gov.

Robert Sargis,
Reports Clearance Officer.

[FR Doc. 2017-26472 Filed 12-7-17; 8:45 am]

BILLING CODE 4184-43-P